ENVIRONMENTAL PROTECTION AGENCY

[EPA-HQ-OPP-2003-0200; FRL-8368-2]

Fenamiphos; Amendment to Use Deletion and Product Cancellation Order

AGENCY: Environmental Protection Agency (EPA).

ACTION: Notice.

SUMMARY: This notice announces EPA's amendment to the order for the cancellation of products, voluntarily requested by the registrant and accepted by the Agency, of products containing the pesticide fenamiphos, pursuant to section 6(f)(1) of the Federal Insecticide, Fungicide, and Rodenticide Act (FIFRA), as amended. This amendment follows a December 10, 2003 Federal Register Use Deletion and Product Cancellation Order which approved the voluntary request submitted by Bayer Corporation to cancel all registrations for products containing the active ingredient fenamiphos. These are the last fenamiphos products registered for use in the United States. The December 10, 2003 order prohibited the sale and distribution of fenamiphos products by persons other than the registrant after May 31, 2008. The sole technical registrant for fenamiphos, Bayer Environmental Science, subsequently requested that the Agency extend the May 31, 2008 deadline for Nemacur 10% Turf and Ornamental Nematicide (EPA Reg. No. 432-1291) and Nemacur 3 Emulsifiable Systemic Insecticide-Nematicide (EPA Reg. No. 264-731). The Agency will extend the deadline for persons other than the registrant to sell and distribute Nemacur 10% Turf and Ornamental Nematicide as well as Nemacur 3 Emulsifiable Systemic Insecticide-Nematicide until November 30, 2008.

DATES: This amendment is effective June 11, 2008.

FOR FURTHER INFORMATION CONTACT: Eric Miederhoff, Special Review and Reregistration Division (7508P), Office of Pesticide Programs, Environmental Protection Agency, 1200 Pennsylvania Ave., NW., Washington, DC 20460-0001; telephone number: (703) 347-8028; fax number: (703) 308-7070; e-mail address: miederhoff.eric@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2003-0200. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the Federal Register listings at http://www.epa.gov/fedrgstr.

II. What Action is the Agency Taking?

This notice announces the amendment of the December 10, 2003 use deletion and product cancellation order of fenamiphos products registered under section 3 of FIFRA. The affected registrations are listed by registration number in Table 1 of this unit.

Table 1.—Fenamiphos Products Affected
EPA Registration Number | Product Name
432-1291 | Nemacur 10% Turf and Ornamental Nematicide
264-731 | Nemacur 3 Emulsifiable Systemic Insecticide-Nematicide

Table 2 of this unit includes the name and address of record for the registrant of the product in Table 1 of this unit, by EPA company number.

Table 2.—Registrant of Affected Products
EPA Company Number | Company Name and Address
432 | Bayer Environmental Science, 2 T.W. Alexander Drive, PO Box 12014, Research Triangle Park, NC 27709
264 | Bayer CropScience, 2 T.W. Alexander Drive, PO Box 12014, Research Triangle Park, NC 27709

On December 10, 2003, EPA published a Use Deletion and Product Cancellation Order (FRL-7332-5) (68 FR 68901). The order prohibited, among other things, the manufacture and distribution of fenamiphos by Bayer Corporation, the sole technical ingredient registrant, after May 31, 2007. The deadline established for Bayer Corporation followed a production cap on the manufacture of fenamiphos, which limited fenamiphos production to 500,000 pounds of active ingredient for the year ending May 31, 2003, and reduced production by 20% each subsequent year during the 5 year phase-out period. The order also prohibited the sale and distribution of fenamiphos by persons other than the registrant after May 31, 2008.

In a letter dated May 22, 2008, the sole fenamiphos technical registrant, Bayer Environmental Science, requested an extension of the May 31, 2008 deadline through the current application season, until December 31, 2008. The letter stated that due to economic constraints, end-users are delaying purchase of this product until they are ready to actually make an application.

In the case of fenamiphos, the original May 31, 2008 deadline was established to provide a reasonable amount of time for the material to work through the channels of trade following the cessation of sale and distribution of fenamiphos products by the registrant, Bayer Environmental Science, on May 31, 2007. Extending the deadline for distributors to sell and distribute Nemacur 10% Turf and Ornamental Nematicide and Nemacur 3 Emulsifiable Systemic Insecticide-Nematicide, will neither conflict with the Agency's application of the guidelines outlined in PR Notice 97-7, nor will it introduce more fenamiphos into the pesticide use cycle than had been stipulated by the terms of the five year phase-out. Allowing additional time for distributors to sell the Nemacur 10% and Nemacur 3 to end users will ensure that this product is utilized safely, in accordance with the approved labeling requirements. Today's action extends the deadline for persons other than the registrant to sell and distribute Nemacur 10% Turf and Ornamental Nematicide (EPA Reg. No. 432-1291) and Nemacur 3 Emulsifiable Systemic Insecticide-Nematicide (EPA Reg. No. 264-731) for six months, until November 30, 2008. End users with existing stocks of products containing fenamiphos may continue to use these products until their stocks are exhausted, provided that the use complies with EPA-approved product label requirements for the respective products.

III. Amended Order

Pursuant to FIFRA section 6(a), EPA hereby amends the December 10, 2003 order to allow persons other than the registrant to sell and distribute the fenamiphos product identified in Table 1 of Unit II., until November 30, 2008. Specifically, the Agency hereby amends the December 10, 2003 order to prohibit the sale and distribution of products containing fenamiphos, provided, however, that persons other than the registrant are permitted to sell and distribute existing stocks of Nemacur 10% Turf and Ornamental Nematicide (EPA Reg. No. 432-1291) and Nemacur 3 Emulsifiable Systemic Insecticide-Nematicide (EPA Reg. No. 264-731) until November 30, 2008. The Agency further amends the December 10, 2003 order to provide that end users with existing stocks of products containing fenamiphos may continue to use these products until their stocks are exhausted, provided that the use complies with EPA-approved product label requirements for the respective products.

IV. What is the Agency's Authority for Taking this Action?

Section 6(a)(1) of FIFRA provides that the Administrator may permit the continued sale and use of existing stocks of a pesticide whose registration is suspended or canceled under this section, or section 3 or 4, to such extent, under such conditions, and for such uses as the Administrator determines that such sale or use is not inconsistent with the purposes of this Act.

List of Subjects

Environmental protection, Pesticides and pests.

Dated: May 30, 2008.
Steven Bradbury,
Director, Special Review and Reregistration Division, Office of Pesticide Programs.

[FR Doc. E8-13003 Filed 6-10-08; 8:45 am]

BILLING CODE 6560-50-S